DEPARTMENT OF AGRICULTURE

Forest Service

Notice of a Meeting of the Northeast Oregon Forests Resource Advisory Committee

AGENCY: Forest Service, USDA.

ACTION: Notice of meeting.

SUMMARY: Pursuant to the authorities in the Federal Advisory Committees Act (Pub. L. 92-463), the Northeast Oregon Forest Resource Advisory Committee (RAC) will meet on September 20, 2012 in John Day, Oregon. The purpose of the meeting is to meet as a Committee to discuss selection of Title II projects under Public Law 110-343, H.R. 1424, the Reauthorization of the Secure Rural Schools and community Self-Determination Act of 2000 (16 U.S.C. 500 note; Pub. L. 106-393), also called “Payments to States” Act.

DATES: The meeting will be held on September 20, 2012, from 9 a.m. to 4 p.m.

ADDRESSES: The meeting will be held in Grant County Regional Airport, 720 Airport Road, John Day, Oregon.

FOR FURTHER INFORMATION CONTACT: Todd Buchholz, Designated Federal Official, USDA, Umatilla National Forest, Heppner Ranger District, P.O. Box 7, Heppner, Oregon 97836; Telephone: (541) 676-2110.

SUPPLEMENTARY INFORMATION: This will be the fourth meeting of the Committee since reauthorization of Public Law 106-393. The meeting will focus on reviewing and recommending 2013 project proposals that meet the intent of the Act. The meeting is open to the public. A public input opportunity will be provided, and individuals will have the opportunity to address the committee at that time.

Dated: August 10, 2012.
Bill Gamble,
District Ranger.

[FR Doc. 2012-20365 Filed 8-17-12; 8:45 am]

BILLING CODE 3410-11-P